DEPARTMENT OF ENERGY

Energy Efficiency and Renewable Energy Advisory Committee (ERAC)

AGENCY: Department of Energy, Office of Energy Efficiency and Renewable Energy.

ACTION: Notice of open meeting.

SUMMARY: The purpose of the ERAC is to provide advice and recommendations to the Secretary of Energy on the research, development, demonstration, and deployment priorities within the field of energy efficiency and renewable energy. The Federal Advisory Committee Act, Public Law 92-463, 86 Stat. 770, requires that agencies publish notice of an advisory committee meeting in the Federal Register.

DATES: Friday, September 23, 2011, 9 a.m.-3 p.m.

ADDRESSES: San Mateo Marriott Hotel, 1770 South Amphlett Blvd., San Mateo, CA 94402.

FOR FURTHER INFORMATION CONTACT: erac@ee.doe.gov.

SUPPLEMENTARY INFORMATION:

Purpose of Meeting: To provide advice and recommendations to the Secretary of Energy on the research, development, demonstration, and deployment priorities within the field of energy efficiency and renewable energy.

Tentative Agenda: (Subject to change; updates will be posted on http://www.erac.energy.gov):

• Updates from ERAC's Subcommittees.

• EERE Impact Assessments.

Public Participation: Members of the public are welcome to observe the business of the meeting and make oral statements during the specified period for public comment. The public comment period will take place between 2:30 p.m. and 3 p.m. during the day of the meeting (Friday, September 23, 2011). To attend the meeting and/or to make oral statements regarding any of the items on the agenda, e-mail erac@ee.doe.gov. In the e-mail, please indicate your name, organization (if appropriate), citizenship, and contact information.

Members of the public will be heard in the order in which they sign up for the Public Comment Period. Time allotted per speaker will depend on the number of individuals who wish to speak but will not exceed 5 minutes. Reasonable provision will be made to include the scheduled oral statements on the agenda. The chair of the committee will make every effort to hear the views of all interested parties and to facilitate the orderly conduct of business.

Participation in the meeting is not a prerequisite for submission of written comments. ERAC invites written comments from all interested parties. If you would like to file a written statement with the committee, you may do so either by submitting a hard or electronic copy before or after the meeting. Electronic copy of written statements should be e-mailed to erac@ee.doe.gov.

Minutes: The minutes of the meeting will be available for public review at http://www.erac.energy.gov.

Issued in Washington, DC on August 25, 2011.
Rachel Samuel,
Deputy Committee Management Officer.

[FR Doc. 2011-22270 Filed 8-30-11; 8:45 am]

BILLING CODE 6450-01-P